ENVIRONMENTAL PROTECTION AGENCY

40 CFR Part 52

[EPA-R09-OAR-2018-0512; FRL-9988-53-Region 9]

Air Plan Approval; California; Mojave Desert Air Quality Management District

AGENCY: Environmental Protection Agency (EPA).

ACTION: Proposed rule.

SUMMARY: The Environmental Protection Agency (EPA) is proposing to approve revisions to the Mojave Desert Air Quality Management District (MDAQMD or “District”) portion of the California State Implementation Plan (SIP). These revisions concern emissions of volatile organic compounds (VOCs) from wood products coating operations and organic solvent degreasing operations. We are proposing to approve local rules to regulate these emission sources under the Clean Air Act (CAA or the Act). We are also proposing to approve revisions to a definitions rule. Finally, we are proposing to convert the partial conditional approval of the District's reasonably available control technology (RACT) SIPs for the 1997 and 2008 ozone standards, as it applies to VOC emissions from wood products coating operations and organic solvent degreasing operations, to a full approval. We are taking comments on this proposal and plan to follow with a final action.

DATES: Any comments must arrive by January 28, 2019.

ADDRESSES: Submit your comments, identified by Docket ID No. EPA-R09-OAR-2018-0512 at http://www.regulations.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www.epa.gov/dockets/commenting-epa-dockets.

FOR FURTHER INFORMATION CONTACT: Nancy Levin, EPA Region IX, (415) 972-3848, levin.nancy@epa.gov.

SUPPLEMENTARY INFORMATION:

Throughout this document, “we,” “us,” and “our” refer to the EPA.

Table of Contents

I. The State's Submittal

A. What rules did the State submit?

B. Are there other versions of these rules?

C. What is the purpose of the submitted rule revisions?

II. The EPA's Evaluation and Action

A. How is the EPA evaluating the rules?

B. Do the rules meet the evaluation criteria?

C. EPA Recommendations To Further Improve the Rules

D. Public Comment and Proposed Action

III. Incorporation by Reference

IV. Statutory and Executive Order Reviews

I. The State's Submittal

A. What rules did the State submit?

Table 1 lists the rules addressed by this proposal with the dates that they were adopted by the local air agency and submitted by the California Air Resources Board (CARB).

Table 1—Submitted Rules
Local agency | Rule # | Rule title | Amended | Submitted
MDAQMD | 1114 | Wood Products Coating Operations | 1/22/2018 | 5/23/2018
MDAQMD | 1104 | Organic Solvent Degreasing Operations | 4/23/2018 | 7/16/2018
MDAQMD | 102 | Definition of Terms | 4/23/2018 | 8/22/2018

On September 19, 2018, the EPA determined that the submittals for MDAQMD Rules 1114 and 1104 met the completeness criteria in 40 CFR part 51 Appendix V, which must be met before formal EPA review. On September 24, 2018, the EPA determined that the submittal for MDAQMD Rule 102 met the completeness criteria in 40 CFR part 51 Appendix V.

B. Are there other versions of these rules?

We approved an earlier version of Rule 1114 into the SIP on August 18, 1998 (63 FR 44132).¹ We approved an earlier version of Rule 1104 into the SIP on April 30, 1996 (61 FR 18962).² We approved an earlier version of Rule 102 into the SIP on November 27, 1990 (55 FR 49281) for the San Bernardino portion of the MDAQMD. We approved amendments to South Coast Air Quality Management District (SCAQMD) Rule 102 into the SIP on March 28, 1979 (44 FR 18491). On June 9, 1982 (47 FR 25013), we approved a revision to the SIP, making the SCAQMD rules applicable in Riverside County. Accordingly, SCAQMD Rule 102, as modified November 4, 1977, and approved on March 28, 1979, is the current definitions rule for the Riverside portion of the MDAQMD.

¹ On July 1, 1994 the Palo Verde Valley area left the South Coast Air Quality Management District (SCAQMD) and became part of the MDAQMD. The EPA's April 30, 1996 (61 FR 18962) approval of Rule 1114, amended February 22, 1995, constituted a new SIP rule for the San Bernardino portion of MDAQMD, and replaced SCAQMD Rule 1136—Wood Products Coatings, amended August 2, 1991 (59 FR 17697, April 14, 1994), for the Palo Verde Valley portion of the District. EPA's August 18, 1998 approval of MDAQMD Rule 1114, amended November 25, 1996, replaced the February 22, 1995 version for the entire District.

² The District's submittal requests that the amended version of Rule 1104 supersede both the existing version of Rule 1104, and the December 20, 1993 (58 FR 66285) version of SCAQMD Rule 1171 (August 2, 1991), which is applicable in the Riverside portion of the MDACMD. Rule 1104 Staff Report at 9-10.

C. What is the purpose of the submitted rule revisions?

Volatile organic compounds help produce ground-level ozone, smog, and particulate matter, which harm human health and the environment. Section 110(a) of the CAA requires states to submit regulations that control VOC emissions. Rule 1114 establishes VOC content limits for coatings and adhesives used on new wood products and used for refinishing, repairing, preserving, or restoring wood products. It establishes requirements for application methods, surface preparation and cleanup, add-on control systems, and work practices. The rule includes test methods, and recordkeeping and monitoring requirements. The rule revisions include lower VOC limits for several coatings and cleaning solvents, and a higher minimum control efficiency for add-on controls. Rule 1104 establishes VOC emission limits for wipe cleaning and degreasing operations using organic solvents. It establishes requirements for VOC content in cleaning solvents, control equipment, cleaning equipment and methods, and operations. The rule includes test methods, and administrative and recordkeeping requirements. The rule revisions include a lower VOC limit for solvent cleaning, a higher minimum control efficiency for add-on controls, and updates to applicability, control equipment requirements, work practice standards, exemptions, monitoring, recordkeeping, and test methods.

Rules 1114 and 1104 are two of 10 rules addressed in the partial approval and partial conditional approval of the MDAQMD's 2006 and 2015 reasonably available control technology (RACT) SIPs (83 FR 5921, February 12, 2018). Our partial conditional approval of the RACT SIPs was based on a commitment by the State to remedy identified deficiencies in each of the 10 rules. The District submitted revised Rules 1114 and 1104 to address and correct the deficiencies identified in that RACT SIP action for wood products coatings operations and for organic solvent degreasing operations.

Rule 102 was updated to shift common definitions used throughout the District rulebook to Rule 102, and to update definitions for consistency and clarity.

The EPA's technical support documents (TSDs) have more information about these rules.

II. The EPA's Evaluation and Action

A. How is the EPA evaluating the rules?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require RACT for each category of sources covered by a Control Techniques Guidelines (CTG) document, and each major source of VOC emissions in ozone nonattainment areas classified as Moderate or above (see CAA section 182(b)(2)). The MDAQMD regulates an ozone nonattainment area classified as Severe for the 2008 ozone standard (40 CFR 81.305) and both Rule 1114 and Rule 1104 regulate sources covered by the CTG documents listed below. Therefore, these two rules must implement RACT for those sources, or the MDAQMD must submit a negative declaration that there are no sources in the relevant CTG category that exceed the CTG threshold.³ The District has not submitted negative declarations for these CTG categories; therefore, we have evaluated Rule 1114 and Rule 1104 to ensure that they implement RACT for these CTG categories.

³ RACT Qs & As—Reasonably Available Control Technology (RACT): Questions and Answers, From: William T. Harnett, Director, Air Quality Policy Division (C539-01) To: Regional Air Division Directors, US EPA, May 18, 2006.

In addition, the EPA is evaluating Rules 1104 and 1114 to determine whether the updated rules meet the District's commitment to cure the deficiencies identified in partial conditional approval of the District's RACT SIPs with respect to wood products coatings operations and organic solvent degreasing operations.

Guidance and policy documents that we used to evaluate enforceability, revision/relaxation, and rule stringency requirements for the applicable criteria pollutants include the following:

1. “Issues Relating to VOC Regulation Cutpoints, Deficiencies, and Deviations,” EPA, May 25, 1988 (the “Bluebook,” revised January 11, 1990).

2. “Guidance Document for Correcting Common VOC & Other Rule Deficiencies,” EPA Region 9, August 21, 2001 (the “Little Bluebook”).

3. “Control of Volatile Organic Compound Emissions from Wood Furniture Manufacturing Operations” (EPA-453/R-96-007, April 1996).

4. “Control of Volatile Organic Emissions from Solvent Metal Cleaning” (EPA-450/2-77-022, November 1977).

5. “Control Techniques Guidelines for Industrial Cleaning Solvents” (EPA-453/R-06-001, September 2006).

6. CARB's RACT/Best Available Retrofit Control Technology (BARCT) guidance titled, “Organic Solvent Cleaning and Degreasing Operations” (July 18, 1991).

B. Do the rules meet the evaluation criteria?

These rules are consistent with CAA requirements and relevant guidance regarding enforceability, RACT, and SIP revisions. In addition, Rules 1104 and 1114 cure the deficiencies identified in the partial conditional approval of the District's RACT SIPs with respect to wood products coatings operations and organic solvent degreasing operations. The TSDs have more information on our evaluation.

C. EPA Recommendations To Further Improve the Rules

The TSDs include recommendations for the next time the local agency modifies the rules.

D. Public Comment and Proposed Action

As authorized in section 110(k)(3) of the Act, the EPA proposes to fully approve the submitted rules because they fulfill all relevant requirements. In addition, we propose to convert the partial conditional approval of the District's RACT SIPs with respect to Rules 1104 and 1114, as found in 40 CFR 52.248(d), to a full approval. We will accept comments from the public on this proposal until January 28, 2019. If we take final action to approve the submitted rules, our final action will incorporate these rules into the federally enforceable SIP.

III. Incorporation by Reference

In this rule, the EPA is proposing to include in a final EPA rule regulatory text that includes incorporation by reference. In accordance with requirements of 1 CFR 51.5, the EPA is proposing to incorporate by reference the MDAQMD rules described in Table 1 of this preamble. The EPA has made, and will continue to make, these materials available through www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: December 14, 2018.
Alexis Strauss,
Acting Regional Administrator, Region IX.

[FR Doc. 2018-28117 Filed 12-26-18; 8:45 am]

BILLING CODE 6560-50-P